DEPARTMENT OF VETERANS AFFAIRS

38 CFR Part 64

RIN 2900-AO35

Grants for the Rural Veterans Coordination Pilot (RVCP)

AGENCY: Department of Veterans Affairs.

ACTION: Proposed rule.

SUMMARY: The Department of Veterans Affairs (VA) proposes to establish a pilot program, known as the Rural Veterans Coordination Pilot (RVCP), to provide grants to eligible community-based organizations and local and State government entities to be used by these organizations and entities to assist veterans and their families who are transitioning from military service to civilian life in rural or underserved communities. VA would use information obtained through the pilot to evaluate the effectiveness of using community-based organizations and local and State government entities to improve the provision of services to transitioning veterans and their families. Five RVCP grants would be awarded for a 2-year period in discrete rural locations pursuant to a Notice of Funds Availability (NOFA) to be published in the Federal Register.

DATES: Comments must be received by VA on or before September 17, 2012.

ADDRESSES: Written comments may be submitted through http://www.Regulations.gov by mail or hand delivery to the Director, Regulations Management (02REG), Department of Veterans Affairs, 810 Vermont Avenue NW., Room 1068, Washington, DC 20420; or by fax to (202) 273-9026. Comments should indicate that they are submitted in response to “RIN 2900-AO35, Grants for the Rural Veterans Coordination Pilot (RVCP).” Copies of comments received will be available for public inspection in the Office of Regulation Policy and Management, Room 1063B, between the hours of 8:00 a.m. and 4:30 p.m., Monday through Friday (except holidays). Please call (202) 461-4902 (this is not a toll-free number) for an appointment. In addition, during the comment period, comments may be viewed online through the Federal Docket Management System at http://www.Regulations.gov.

FOR FURTHER INFORMATION CONTACT: Karen Malebranche, Veterans Health Administration, Office of Interagency Health Affairs (10P5), 810 Vermont Avenue NW., Washington, DC 20420, telephone (202) 461-6001. (This is not a toll-free number.)

SUPPLEMENTARY INFORMATION: On May 5, 2010, the President signed into law the Caregivers and Veterans Omnibus Health Services Act of 2010 (2010 Act), Public Law 111-163. Section 506(a) of the 2010 Act, codified at 38 U.S.C. 523 note, requires VA to establish a pilot program to assess the feasibility and advisability of using community-based organizations and local and State government entities to:

• Increase the coordination of community, local, State, and Federal providers of health care and benefits for veterans to assist veterans who are transitioning from military service to civilian life in such transition;

• Increase the availability of high quality medical and mental health services to veterans transitioning from military service to civilian life;

• Provide assistance to families of veterans who are transitioning from military service to civilian life to help such families adjust to such transition; and

• Provide outreach to veterans and their families to inform them about the availability of benefits and connect them with appropriate care and benefit programs.

In addition, section 506(c)(2) instructs VA to carry out the program in five locations to be selected by the Secretary of Veterans Affairs. In selecting locations, section 506 requires VA to consider sites in:

• Rural areas;

• Areas with populations that have a high proportion of minority group representation;

• Areas with populations that have a high proportion of individuals who have limited access to health care; and

• Areas that are not in close proximity to an active duty military installation.

This rulemaking proposes regulations to implement this statutory mandate by establishing a 2-year pilot program to be known as the “Rural Veterans Coordination Pilot” and by its acronym “RVCP.”

Under the RVCP, VA would award grants to eligible entities that propose to provide assistance to certain veterans and their families who are making the transition from military service to civilian life in rural or underserved communities; specifically, veterans covered under the pilot program are those who were discharged or released from service up to 2 years prior to the date funds are awarded to the grantee.

In section 506(g) of the 2010 Act, Congress required VA to report on the experience of the RVCP, including an assessment of its benefits to veterans and the advisability of continuing the pilot program. Because VA must make this report within 180 days following the completion of this pilot, VA proposes to offer grants that would be available for the 2-year period of the pilot and to require strict adherence to the reporting deadlines established.

64.0 Purpose and Scope

Proposed § 64.0 would set forth the purpose of the RVCP and the scope of part 64. The purpose of the RVCP is to provide grants to community-based organizations and local and State government entities to be used to assist veterans who are transitioning from military service to civilian life in rural or underserved communities and the families of such veterans. Proposed part 64 would apply only to the RVCP.

64.2 Definitions

Proposed § 64.2 would define terms applicable to § 64.0 through § 64.18 and to the NOFA that will be published in the Federal Register, as required by proposed § 64.8.

We propose to define “applicant” as an eligible entity that submits an application for a grant as announced in a NOFA. Any eligible entity would become an applicant by submitting an application.

“Community-based organization” would be defined as a group that represents a community or a significant segment of a community and that is engaged in meeting community needs. This definition would ensure that grant funds are used to reach smaller groups that are able to operate within communities and to reach veterans and/or their families in areas that are harder for VA to reach through existing means, which is the Congressional intent behind section 506.

An “eligible entity” would be defined as a community-based organization or a local or State government entity. These are the organizations and entities identified in section 506 of the 2010 Act as the possible recipients of grants under the RVCP. An eligible entity would be identified as the legal entity whose employer identification number is on the Application for Federal Assistance (SF 424), even if only a particular component of the entity is applying for the RVCP grant. This would help ensure the integrity of the program because it would enable VA to evaluate the applicant organization as part of the larger entity, and would help ensure a broader distribution of grant funds because VA would not award more than one grant to any one eligible entity.

A “grantee” would be defined as a recipient of an RVCP grant, in other words, an applicant that is awarded an RVCP grant.

We propose to define having “limited access to health care” as residing in an area identified by the Health Resources and Services Administration of the U.S. Department of Health and Human Services (HHS) as being a medically underserved area or having a medically underserved population. HHS defines medically underserved areas or populations as having “too few primary care providers, high infant mortality, high poverty and/or high elderly population.” Areas that meet these criteria can be found on HHS's list of medically underserved communities published on their interactive Web site at http://muafind.hrsa.gov. This definition would ensure that grant funds assist persons in the types of areas contemplated by section 506 of the 2010 Act, i.e., “areas with populations that have a high proportion of individuals who have limited access to health care.”

We propose to define “local government” as a county, municipality, city, town, township, or regional government or its components. This definition is consistent with the plain language of section 506.

For purposes of the RVCP, VA proposes to use the definition of “[m]inority group member” found at 38 U.S.C. 544(d). This definition includes individuals who are Asian American, Black, Hispanic, Native American (including American Indian, Alaskan Native, and Native Hawaiian), or Pacific-Islander American. There is no reason to interpret “minority group” as used in section 506 of the 2010 Act in a manner other than as used for other title 38 programs or activities.

A “Notice of Funds Availability,” or “NOFA,” would be defined as the notice published by VA in the Federal Register alerting eligible entities of the availability of RVCP grants and containing important information about the RVCP grant application process, in accordance with proposed § 64.8.

A “participant” would be defined as a veteran or a member of a veteran's family who receives services for which an RVCP grant is awarded.

To define “rural,” VA proposes to rely on information compiled and provided by the U.S. Census Bureau in identifying rural communities. The Census Bureau's classification of “rural” consists of all territory, population, and housing units located outside of urbanized areas and urban clusters. Interested parties are referred to the Census Bureau's Web site (http://www.census.gov/geo/www/ua/ua_2k.html) for additional information. Section 506 offers no specialized meaning of the term, and therefore, we believe it is rational to use the definition provided by the U.S. Census Bureau. This definition would ensure that grant funds assist persons in the types of areas contemplated by section 506(c)(2)(A) of the 2010 Act.

The “Rural Veterans Coordination Pilot,” or “RVCP,” refers to the pilot grant program authorized by section 506 of the 2010 Act.

We propose to define “State government” as any of the fifty States of the United States, the District of Columbia, the Commonwealth of Puerto Rico, any territory or possession of the United States, or any agency or instrumentality of a State government. This definition is consistent with the plain language meaning of the term and its use in section 506 of the 2010 Act.

We propose to define “underserved communities” as those areas that have a high proportion of minority group representation, have a high proportion of individuals who have limited access to health care, or have no active duty military installation that is reasonably accessible to the community. Section 506 of the 2010 Act directs VA to consider making RVCP grants available in such communities. We propose to refer to these communities collectively as “underserved communities” because these areas have been identified as lacking in medical and other services that are available to individuals in other areas. Use of a single term to identify these areas would make reference to them in these regulations easier and more efficient.

Section 506(c)(2)(D) requires VA to consider “areas that are not in close proximity to an active duty military installation.” We interpret “close proximity” to mean something other than a mere distance. VA recognizes that the geography surrounding any given military installation will vary, and that geographical and transportation barriers may affect the time that it takes to reach a military installation which, by simple mileage count, may be in close proximity. For example, some rural areas are functionally more remote than others owing to issues such as geographic features (e.g., mountainous regions, lakes, major rivers) and seasonal restrictions (e.g., limited ferry service, closed roads or bridges, reduced flights). Therefore, we would refer in the definition of “underserved communities” to areas that “have no active duty military installation that is reasonably accessible to the community,” in order to emphasize that it is accessibility, not solely distance, that would be used to determine whether a particular location is appropriate for RVCP funding.

We propose to define a “veteran who is transitioning from military service to civilian life” as one who is leaving active military, naval, or air service in the Armed Forces to return to life as a civilian. To ensure that RVCP funds are used to assist veterans and their families who are actively transitioning, i.e., who are experiencing the acute effects of the change in lifestyle, we would limit the term to veterans who have been discharged or released from service not more than 2 years prior to the date on which an RVCP grant is awarded. In section 506, Congress directs VA to use this pilot to assess the feasibility and advisability of using these organizations and entities to assist in providing benefits and assistance to veterans and their families “who are transitioning from military service to civilian life.” We believe that the initial 2 years after discharge or release pose the greatest challenge to veterans and their families as they relocate and readjust to the civilian way of life.

We would use “VA” to refer to the U.S. Department of Veterans Affairs for purposes of ease and readability.

We propose to define a “veteran” as a person who served in the active military, naval, or air service and who was discharged or released under conditions other than dishonorable. This definition is consistent with 38 U.S.C. 101(2) and the use of the term in other VA benefit programs.

We propose to define the “veteran's family” as those individuals who reside with the veteran in the veteran's primary residence. These individuals may include a parent, a spouse, a child, a step-family member, an extended family member, and individuals who reside in the home with the transitioning veteran but are not a member of the family of the transitioning veteran. We believe this definition is representative of the family unit of many transitioning veterans today. We do not propose to provide services under this pilot program to family members who do not reside in the veteran's primary residence, such as separated or divorced spouses, surviving spouses, or children who primarily reside with the other parent, because these individuals are less likely to be experiencing the effects of transition or may have other resources available to assist them. Moreover, we note that this definition of family is consistent with the definition set out in section 101 of the 2010 Act governing assistance and support services for caregivers (see 38 U.S.C. 1720G(d)(3)).

64.4 RVCP Grants—General

Proposed § 64.4 would provide general information pertaining to RVCP grants. Section 506(c)(1) of the 2010 Act directs VA to carry out the RVCP in five locations. To meet this requirement, in § 64.4(a) and (b), we propose to award a total of five RVCP grants to eligible entities and to limit the awards to one grant per eligible entity and one grant for each pilot project location. For this purpose we hope to gather evidence on the effectiveness of community-based organizations and local and State government entities in various locations in increasing the availability and coordination of care and benefits available to transitioning veterans and their families at all levels (i.e., at the local, State, and Federal levels) and providing assistance and outreach services to these veterans and their families to help them transition successfully to civilian life.

In proposed § 64.4(c), we propose that each RVCP grant award would be for a maximum period of 2 years, which is the length of the RVCP under section 506 of the 2010 Act. To maximize the effectiveness of the pilot, we propose that the date on which the 2 years would begin would be the date on which the RVCP grants are awarded. No extensions or renewals would be available as the RVCP would end 2 years after the date the awards are granted.

In proposed § 64.4(d), we state that a grantee would not be required to provide matching funds as a condition of receiving an RVCP grant. Our goal with this pilot is, in part, to assess how eligible entities in target areas that currently lack the resources needed to assist transitioning veterans and their families might be able to provide them with needed assistance were additional resources available. Requiring matching funds could negate the ability of otherwise eligible entities to qualify for RVCP grants.

Proposed paragraph (e) would specify that no participant would be charged a fee for any services provided by a grantee under the RVCP grant and would not be required to participate in any other activities sponsored by a grantee as a condition of receiving assistance under the RVCP grant. Grantees would be expected to provide the services for which the RVCP grants are made to the participant without charge or condition.

64.6 Permissible Uses of RVCP Grants

In proposed § 64.6, we would define the permissible uses of RVCP grants. In general, as provided in section 506 of the 2010 Act, RVCP grants would be used to increase the coordination of health care and benefits for transitioning veterans, to increase the availability of high quality medical and mental health services to transitioning veterans, to provide assistance to families of transitioning veterans, and to provide outreach to veterans and their families. We would provide specific examples of each of these purposes in § 64.6(a). These examples are intended to be guidance to potential applicants and not an exclusive list. We propose to require that at least 90 percent of the RVCP grant be used for these purposes. The reason that we provide examples is to offer guidance; VA would encourage highly innovative RVCP grant projects and would allow use of grant funds to evaluate new strategies in each of these areas, and we reemphasize that we do not intend these examples to limit applicants' attempts to provide creative, innovative ways to reach the goals stated in paragraphs (a)(1) through (4).

Under proposed § 64.6(b), grantees would be required to limit the use of the RVCP funds for the indirect costs of doing business to no more than 10 percent of the RVCP grant awarded to the grantee. These costs would include those expenses of doing business that are not identified directly with the services provided using the RVCP grant but are necessary for the general operation of the grantee organization. We recognize that applicants would incur such costs to fulfill any proposal. Limiting the amount that would be used to cover these costs would ensure that RVCP grants are used primarily for the benefit of transitioning veterans and their families. We believe 10 percent of the total grant awarded is fair and reasonable because we anticipate that many of the entities who would apply for these grants are already actively working to assist veterans and their families in the target communities, but they may lack the funding necessary to be fully effective or to increase the reach of their services. In these cases, by allowing 10 percent to be used for indirect costs, we provide a mechanism for these entities to increase their services and recover any additional costs of recordkeeping and reporting necessitated by the terms of the grant award.

64.8 Notice of Funds Availability (NOFA)

Proposed § 64.8 would describe the method VA would use to announce the availability of the five RVCP grants. VA proposes to publish a NOFA in the Federal Register when funds are available to award RVCP grants. The NOFA would direct eligible entities to the Grants.gov portal, which is used for Federal grant programs, and would indicate the forms available on that site that applicants would be required to use. The NOFA also would specify the date, time, and place for submitting completed RVCP grant applications, the estimated amount of funds that would be available for all RVCP grants, and the maximum amount available for an RVCP grant to a single entity. The NOFA would state the points required for each category listed in § 64.12 and the minimum number of total points necessary for an application to qualify for potential funding, and the dates by which scoring would be completed and applicants notified. VA would state in the NOFA the timeframes and manner in which payments would be made to successful applicants. The NOFA would include any additional information necessary to complete the application process for an RVCP grant. To ensure that applicants have all the resources necessary to them, VA would include information in the NOFA informing eligible entities how to contact VA for clarification or assistance.

64.10 Application

RVCP grant application procedures are addressed in proposed § 64.10. As stated in proposed § 64.8, VA would provide relevant information about an available RVCP grant by publishing a NOFA in the Federal Register. Under proposed § 64.10(a), applications would be accepted only through the Grants.gov Web site. This is the easiest and most efficient way to process grant applications and should be familiar to many of the types of eligible entities likely to submit an application.

In proposed § 64.10(b), we propose to define the elements of a complete application. In general, a complete application requires the submission of information contained in this section, using the forms identified in the NOFA and available through Grants.gov.

Proposed § 64.10(b)(1) through (b)(5) would require submission of detailed information on the project that is being proposed. In particular, applicants would be required to describe the services to be provided, including which of the permissible uses in § 64.6(a) the proposed services are intended to address, the need for those services in the proposed project location, and why the location qualifies as rural or an underserved community. The applicants also would be required to provide certain information about their experience in providing the proposed services, and how they would monitor and evaluate their compliance. These elements are critical to VA's ability to determine whether the applicant is proposing a project that would assist veterans and their families as they transition from military service to civilian life, particularly those who are located in rural and underserved areas and most in need of this assistance.

In proposed § 64.10(b)(6), we would require documentation of the applicant's ability to administer the project, given the limitation on use of funds from the RVCP grant for indirect costs of doing business which, under proposed § 64.6(b), can be only up to 10 percent of the total grant amount. In light of this limitation, VA would require each applicant to provide documentation of its capacity to manage the project, including a plan to continuously assess participant need for the services proposed and the ability to respond to any changes by adjusting the services provided within the scope of the project. Applicants would also be required to allow coordination and customization of services to meet the identified need of the participants. Applicants must also clearly define how they plan to comply with the requirements of the RVCP, including the submission of timely reports. Requiring the applicants to submit this very detailed information would provide evidence not only of their ability to follow through on the proposed project, but also the extent to which they have considered all aspects of planning and providing the proposed services and the necessary data management to facilitate timely and accurate reports. In proposed § 64.10(b)(7), we would require that applicants disclose any assistance received from or any consultation with VA or Veterans Service Organizations (VSO) in the preparation of the RVCP grant application. Because successful applications for grants under the program would depend on the applicant having a working knowledge of VA health care and benefits and the means by which those benefits are delivered, we realize that applicants may need to work closely with numerous sources, including local VSOs, VA Regional Offices, and VA Medical Centers, as well as the RVCP office, in designing their proposals. Such interactions may help applicants to better understand the scope of VA benefits available to veterans and their families, to identify areas that need improvement in the locations they propose to serve, and to identify necessary procedures and documentation that would be required to assist transitioning veterans and their families access appropriate care and benefits. Notwithstanding the noted value of such contact, we would require that all direct communication with VA or VSOs in preparation of the application must be disclosed in the application packet to assist RVCP managers in identifying any potential conflict of interest on the part of application reviewers. These disclosures would also help reviewers assess the applicant's readiness and likelihood of project success.

The NOFA would also provide the Internet address of VA's RVCP technical assistance Web page and VA fully expects that applicants would take advantage of this assistance to design the strongest possible proposals to reasonably meet the expectations of the RVCP. We are not seeking disclosure of Web site access (either RVCP Web site or other VA developed public sites).

Paragraph (b)(8) would allow VA to specify additional requirements in the NOFA. This would help us tailor the NOFA as VA deems necessary.

64.12 Scoring and Selection

In proposed § 64.12, we would establish general scoring criteria and the method for selection of grantees. Applications must be complete, as set forth in § 64.10(b), and received by the deadline stated in the NOFA. Scores for each application would be based on the criteria set forth in proposed paragraphs (a)(1) through (a)(6). These proposed categories are weighted according to their importance in ensuring the successful development and operation of a project that meets the intent of the RVCP. A maximum of 100 points would be possible and the decision of VA regarding scoring and selection would be final.

Applicants would be scored, under proposed § 64.12(a)(1), on experience in providing the services that are proposed in the application. An applicant may be awarded up to 10 points by providing sufficient information to assure VA of its established ability to provide the proposed services to the public and/or to veterans and their families. Although we are encouraging innovation, we believe that it is appropriate to offer points to applicants who have documented success and experience in the provision of the proposed services.

In proposed § 64.12(a)(2), VA proposes to award up to 10 points to applicants who clearly identify the need for the proposed project in the target location. Projects that provide thoroughly defined and researched plans which are innovative and avoid repetition of existing projects or ideas would be scored more favorably. The purpose of this criterion is to help ensure that grants are offered to applicants who understand the specific needs of their target location beyond the basic descriptions of the intended participants that may be described in the NOFA or in general materials describing the applicant's organization.

Proposed paragraph § 64.12(a)(3), in which applications may be awarded up to 40 points, would evaluate the applicant's concept and plan for successful implementation of the proposed project. The project description must provide realistic estimates of time, staffing, and material needs to provide the proposed services.

Applicants must design a project which focuses on one or more of the four permissible uses of the RVCP for transitioning veterans stated in § 64.6 (increasing the coordination of health care for veterans; increasing the availability of high quality medical and mental health services; providing assistance to transitioning families; and/or outreach to transitioning veterans and their families). Applicants are scored based on how effectively the proposed project would determine and address the local needs of transitioning veterans in the location to be served without duplicating effective programs already in place.

Under proposed § 64.12(a)(4), VA would evaluate and award up to 10 points for the applicant's plan of self-evaluation and monitoring during the grant period, as required in § 64.10(b)(5). Self-evaluation and monitoring would help VA ensure that the RVCP funds are being used appropriately and would also assist in our overall assessment of the pilot program required by section 506(g) of the 2010 Act.

In proposed § 64.12(a)(5), up to 10 points would be available for organizational financial fitness. This information is important to ensure that funds are not provided to an organization that is financially unstable or to an organization that has been unable to manage funds, including Federal funds, in the past. The limited duration and amounts of RVCP grants available for this pilot are not intended to help “grow” a local organization but rather to reward innovative projects submitted by local organizations that are already established, stable, and immediately ready to provide services to veterans and their families. At the same time, however, we believe that other application requirements, such as the complexity of the plan concept in paragraph (a)(3), would also provide information concerning the applicant's ability to complete the project and, therefore, we offer only ten points for this criterion.

Proposed paragraph § 64.12(a)(6) would provide up to 20 points for the proposed project location identified. VA would evaluate the applicant's proposed location and the documentation provided to ensure that the location is rural or underserved, as defined in § 64.2. VA is interested in identifying rural and underserved areas with an adequate population of transitioning veterans to allow a proposed grant project to demonstrate effectiveness in such an area.

In proposed § 64.12(b), we describe the selection process. Using the scoring criteria provided in § 64.12(a), VA would score all complete applications submitted by the deadline provided in the NOFA. All applications that receive at least the minimum total points and minimum points per category as stated in the NOFA would be ranked from highest to lowest based on total points received. VA would award one RVCP grant to the applicant with the highest total score. Each successive grant would be awarded to the application with the next highest total, provided the applicant is a unique eligible entity and the proposed project is in a different project location than all previously awarded RVCP grants. If the next highest ranked application was submitted by an entity that was already awarded an RVCP grant or proposes to deliver services in the same or overlapping location as a previously awarded grant, VA would pass over that application and evaluate the next highest ranking application until an application submitted by a unique entity and proposing to serve a different location is found. VA would repeat this until all five RVCP grants have been awarded.

64.14 RVCP Grant Agreement

Proposed § 64.14(a) would require VA to draft a grant agreement that would be executed by VA and the grantee.

Proposed paragraph (b) would set forth the elements of the agreement. Under paragraph (b)(1), the agreement would require the grantee to operate the project in accordance with the provisions of the RVCP, as set forth in this rulemaking, and in accordance with the terms of the grant agreement. Proposed paragraphs (b)(2)(i) and (b)(2)(ii) would recognize that VA grants awarded to local and State entities and to non-profit entities are also governed by 38 CFR parts 43 and 49, respectively, 2 CFR parts 25 and 170, and applicable Office of Management and Budget (OMB) regulations and circulars. Particularly, the determination of allowable costs which may be charged to or accounted as a part of a Federally funded project is controlled by OMB Circular A-122, Cost Principles for Non-Profit Organizations (codified at 2 CFR part 230), and by OMB Circular A-87, Cost Principles for State, Local, and Indian Tribal Governments. These common rules provide uniform guidance and government-wide terms and conditions for the management of awards and administration of Federal grants.

Proposed § 64.14(b)(3) would require the grantee to agree to comply with any additional recordkeeping requirements, including financial records and project monitoring as described in the NOFA, to meet the needs of the RVCP. Proposed § 64.14(b)(4) would require that grantees agree to timely provide any additional information as requested by VA; for instance, VA may require additional information to complete its congressional reporting requirements or to complete its assessment of the RVCP. Timely and accurate reporting by grant recipients is a critical tool by which VA would evaluate the RVCP and, as required by section 506(g) of the 2010 Act, report to Congress on the advisability and feasibility of continuing this program.

64.16 Reporting

Proposed § 64.16 would establish grantee reporting requirements to obtain information necessary to analyze the performance of a grantee's project. Each report would include, as described in proposed § 64.16(a), a summary of the time and resources expended in outreach activities and the outreach methods used; the number and demographics of the participants served by the grantee; the types of assistance provided; a full accounting of the grant funds received during the quarter, detailing amounts expended and the balance remaining at each quarter's end; and results of the grantee's monitoring and any variations from the approved grant project. Reports would be required quarterly, no later than 15 calendar days following the close of each Federal fiscal quarter, including the final quarter for which funds are awarded, see proposed § 64.16(b). These reports would be used to verify that grant funds were used appropriately and to assess the overall impact of the RVCP program and the advisability of continuing the pilot program.

Proposed paragraph (c) would allow VA to request other information or documentation as necessary to fully assess the success of the project or the RVCP. VA would request information to determine whether grant funds were used appropriately or to gather additional information in the event any part of the required reports submitted by a grantee is inadequate.

64.18 Recovery of Funds

Proposed § 64.18(a) would state that VA may terminate an RVCP grant and recover funds from any grantee that does not comply with the terms of the RVCP grant agreement. It would also state that VA would first notify the grantee in writing of VA's intention to recover the grant funds and afford an opportunity for the grantee to respond before making any final decision to recover the funds. The grantee would be given 30 days starting from the date of the notice to provide documentation of compliance with the RVCP grant agreement and avoid a recovery action by VA. Proposed paragraph (b) would specify that if VA makes a final decision that action would be taken to recover grant funds from a grantee, the grantee would be prohibited from receiving further grant funds from VA. These criteria would ensure appropriate use of RVCP funds, ensure the best use of RVCP funds available from VA and protect the RVCP from abuse.

Effect of Rulemaking

The Code of Federal Regulations, as proposed to be revised by this proposed rulemaking, would represent the exclusive legal authority on this subject. No contrary rules or procedures would be authorized. All VA guidance would be read to conform with this proposed rulemaking if possible or, if not possible, such guidance would be superseded by this rulemaking.

Paperwork Reduction Act

Although this rule contains provisions constituting collections of information, at 38 CFR 64.10, under the provisions of the Paperwork Reduction Act of 1995 (44 U.S.C. 3501-3521), no new or proposed revised collections of information are associated with this proposed rule. The information collection requirements for § 64.10 are currently approved by the Office of Management and Budget (OMB) and have been assigned OMB control numbers 4040-0003, 4040-0004, 4040-0006, 4040-0007, 4040-0008, 4040-0009, and 4040-0010. The reports required under § 64.16 would be collected only from the five award recipients and, therefore, do not constitute a collection of information as defined in section 3502(3)(A)(i) of the Paperwork Reduction Act of 1995.

Executive Orders 12866 and 13563

Executive Orders 12866 and 13563 direct agencies to assess the costs and benefits of available regulatory alternatives and, when regulation is necessary, to select regulatory approaches that maximize net benefits (including potential economic, environmental, public health and safety effects, and other advantages; distributive impacts; and equity). Executive Order 13563 (Improving Regulation and Regulatory Review) emphasizes the importance of quantifying both costs and benefits, reducing costs, harmonizing rules, and promoting flexibility. Executive Order 12866 (Regulatory Planning and Review) defines a “significant regulatory action,” which requires review by OMB, as “any regulatory action that is likely to result in a rule that may: (1) Have an annual effect on the economy of $100 million or more or adversely affect in a material way the economy, a sector of the economy, productivity, competition, jobs, the environment, public health or safety, or State, local, or tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in this Executive Order.”

The economic, interagency, budgetary, legal, and policy implications of this regulatory action have been examined and it has been determined not to be a significant regulatory action under Executive Order 12866.

Regulatory Flexibility Act

The Secretary hereby certifies that this proposed rule would not have a significant economic impact on a substantial number of small entities as they are defined in the Regulatory Flexibility Act, 5 U.S.C. 601-612. There would be no negative economic impact on any of the eligible entities because the grantees would not be required to provide matching funds to obtain the maximum grant allowance. This pilot grant program would not impact a substantial number of small entities because only five non-renewable grants would be awarded. Therefore, pursuant to 5 U.S.C. 605(b), this proposed rule is exempt from the initial and final regulatory flexibility analysis requirements of sections 603 and 604.

Unfunded Mandates

The Unfunded Mandates Reform Act requires, at 2 U.S.C. 1532, that agencies prepare an assessment of anticipated costs and benefits before issuing any rule that may result in the expenditure by State, local, and tribal governments, in the aggregate, or by the private sector, of $100 million or more (adjusted annually for inflation) in any given year. This proposed rule would have no such effect on State, local, and tribal governments, or on the private sector.

Catalog of Federal Domestic Assistance

At this time there are no Catalog of Federal Domestic Assistance numbers and titles for the program affected by this regulation. Catalog of Federal Domestic Assistance numbers and titles will be obtained when the program is established on the Grants.gov Web site.

Signing Authority

The Secretary of Veterans Affairs, or designee, approved this document and authorized the undersigned to sign and submit the document to the Office of the Federal Register for publication electronically as an official document of the Department of Veterans Affairs. John R. Gingrich, Chief of Staff, Department of Veterans Affairs, approved this document on July 2, 2012, for publication.

List of Subjects in 38 CFR Part 64

Administrative practice and procedure, Disability benefits, Claims, Government contracts, Grant programs—health, Grant programs—veterans, Health care, Health records, Reporting and recordkeeping requirements, Veterans.

Dated: July 13, 2012.
William F. Russo,
Deputy Director, Office of Regulation Policy and Management, Office of the General Counsel, Department of Veterans Affairs.

For the reasons stated in the preamble, VA proposes to amend 38 CFR chapter I by adding part 64 to read as follows:

PART 64—GRANTS FOR THE RURAL VETERANS COORDINATION PILOT (RVCP)

Sec.
64.0 Purpose and scope.
64.2 Definitions.
64.4 RVCP grants—general.
64.6 Permissible uses of RVCP grants.
64.8 Notice of Funds Availability (NOFA).
64.10 Application.
64.12 Scoring and selection.
64.14 RVCP grant agreement.
64.16 Reporting.
64.18 Recovery of funds.

Authority: 38 U.S.C. 501, 523 note.

§ 64.0 Purpose and scope.

(a) Purpose: The Rural Veterans Coordination Pilot (RVCP) program implements the requirements of section 506 of the Caregivers and Veterans Omnibus Health Services Act of 2010 to provide grants to community-based organizations and local and State government entities to assist veterans who are transitioning from military service to civilian life in rural or underserved communities and families of such veterans.

(b) Scope. This part applies only to the administration of the RVCP, unless specifically provided otherwise.

(Authority: 38 U.S.C. 501, 523 note)

§ 64.2 Definitions.

For the purpose of this part and any Notice of Funds Availability issued under this part:

Applicant means an eligible entity that submits an application for an RVCP grant as announced in a Notice of Funds Availability.

Community-based organization means a group that represents a community or a significant segment of a community and is engaged in meeting community needs.

Eligible entity means a community-based organization or local or State government entity. An eligible entity will be identified as the legal entity whose employer identification number is on the Application for Federal Assistance (SF 424), even if only a particular component of the broader entity is applying for the RVCP grant.

Grantee means recipient of an RVCP grant.

Limited access to health care means residing in an area identified by the Health Resources and Services Administration of the U.S. Department of Health and Human Services as “medically underserved” or having a “medically underserved population.”

Local government means a county, municipality, city, town, township, or regional government or its components.

Minority group member means an individual who is Asian American; Black; Hispanic; Native American (including American Indian, Alaskan Native, and Native Hawaiian); or Pacific-Islander American.

Notice of Funds Availability (NOFA) means a Notice published by VA in the Federal Register alerting eligible entities of the availability of RVCP grants and containing important information about the RVCP grant application process in accordance with § 64.8.

Participant means a veteran or a member of a veteran's family who receives services for which an RVCP grant is awarded.

Rural means an area classified as “rural” by the U.S. Census Bureau.

Rural Veterans Coordination Pilot (RVCP) refers to the pilot grant program authorized by section 506 of the Caregivers and Veterans Omnibus Health Services Act of 2010.

State government means any of the fifty States of the United States, the District of Columbia, the Commonwealth of Puerto Rico, any territory or possession of the United States, or any agency or instrumentality of a State government.

Underserved communities are areas that meet one or more of the following criteria:

(1) Have a high proportion of minority group representation;

(2) Have a high proportion of individuals who have limited access to health care; or

(3) Have no active duty military installation that is reasonably accessible to the community.

VA means the U.S. Department of Veterans Affairs.

Veteran means a person who served in active military, naval, or air service, who was discharged or released under conditions other than dishonorable.

Veteran who is transitioning from military service to civilian life means a veteran who is separating from active military, naval, or air service in the Armed Forces to return to life as a civilian and such veteran's date of discharge or release from active military, naval, or air service was not more than 2 years prior to the date on which the RVCP grant was awarded.

Veteran's family means those individuals who reside with the veteran in the veteran's primary residence. These individuals include a parent, a spouse, a child, a step-family member, an extended family member, and individuals who reside in the home with the veteran but are not a member of the family of the veteran.

(Authority: 38 U.S.C. 501, 523 note)

§ 64.4 RVCP grants—general.

(a) VA will award five RVCP grants to eligible entities as defined in § 64.2.

(b) An eligible entity may receive only one RVCP grant, and only one RVCP grant will be awarded in any one pilot project location (see § 64.12(a)(6)).

(c) RVCP grants will be awarded for a maximum period of 2 years, beginning on the date on which the RVCP grants are awarded. They will not be extended or renewable.

(d) A grantee will not be required to provide matching funds as a condition of receiving an RVCP grant.

(e) No participant will be charged a fee for services provided by the grantee or be required to participate in other activities sponsored by the grantee as a condition of receiving services for which the RVCP grant is made.

(Authority: 38 U.S.C. 501, 523 note)

§ 64.6 Permissible uses of RVCP grants.

(a) Grantees must maximize the use of RVCP grants by ensuring that at least 90 percent of funds awarded are used to provide services designed to aid in the adjustment to civilian life in one or more of the following areas:

(1) Increasing coordination of health care and benefits for veterans. Examples include, but are not limited to, identifying sources of community, local, State, and Federal health care and benefits; obtaining necessary applications and assisting veterans in the preparation of applications for such care and benefits; and identifying and eliminating barriers to receiving identified benefits.

(2) Increasing availability of high quality medical and mental health services. Examples include, but are not limited to, increasing availability of or access to insurance or low- or no-cost public or private health care, including out-patient care, preventive care, hospital care, nursing home care, rehabilitative care, case management, respite care, and home care; providing assistance in accessing or using telehealth services; transporting veterans to medical facilities or transporting medical or mental health providers to veterans; and providing assistance in obtaining necessary pharmaceuticals, supplies, equipment, devices, appliances, and assistive technology.

(3) Providing assistance to families of transitioning veterans. Examples include, but are not limited to, helping obtain medical insurance for family members; helping the family obtain suitable housing; providing job-search assistance or removing barriers for family members seeking employment; assisting the family in identifying and applying to appropriate schools and/or child care programs; securing learning aids such as textbooks, computers and laboratory supplies; and obtaining personal financial and legal services.

(4) Outreach to veterans and families. Examples include, but are not limited to, the provision, development or deployment of various media tools (e.g., Internet, television, radio, flyers, posters, etc.), activity days, program booths, or other strategies to reach transitioning veterans and their families in the target community and assist them with their transition from military service to civilian life. Outreach services may be provided directly by the RVCP grantee or the grantee may engage the outreach services of another entity using RVCP funds.

(b) Grantees may use up to 10 percent of the RVCP grant for indirect costs, i.e., the expenses of doing business that are not readily identified with a particular grant but are necessary for the general operation of the grantee organization and the conduct of activities it performs.

(Authority: 38 U.S.C. 501, 523 note)

§ 64.8 Notice of Funds Availability (NOFA).

When funds are available for RVCP grants, VA will publish a NOFA in the Federal Register and in Grants.gov (http://www.grants.gov). The NOFA will identify:

(a) The location for obtaining RVCP grant applications, including the specific forms that will be required;

(b) The date, time, and place for submitting completed RVCP grant applications;

(c) The estimated total amount of funds available and the maximum funds available to a single grantee;

(d) The minimum number of total points and points per category that an applicant must receive to be considered for a grant and information regarding the scoring process;

(e) Any timeframes and manner for payments under the RVCP grant; and

(f) Other information necessary for the RVCP grant application process, as determined by VA, including contact information for the office that will oversee the RVCP within VA.

(Authority: 38 U.S.C. 501, 523 note)

§ 64.10 Application.

(a) To apply for an RVCP grant, eligible entities must submit to VA a complete application package. Applications will be accepted only through Grants.gov (http://www.grants.gov).

(b) A complete RVCP grant application package includes the following:

(1) A description of the services to be provided and which of the permissible uses for RVCP grants outlined in § 64.6(a) the services are intended to fulfill.

(2) A description, with supporting documentation, of the need for the proposed project in the proposed location, including an estimate, with supporting documentation, of the number of veterans and families that will be provided services by the applicant.

(3) A description, with supporting documentation, of how the proposed project location qualifies as a rural or an underserved community, as defined in this part.

(4) Documentation evidencing the applicant's experience in providing the proposed services, particularly to veterans and their families.

(5) Evidence of a clear, realistic, and measurable program of self-evaluation and monitoring, including a documented commitment to remediate any identified noncompliance.

(6) Documentation of the ability of the applicant to administer the project, including plans to:

(i) Continuously assess and adapt to the needs of participants for services under the RVCP grant;

(ii) Coordinate and customize the provision of services to the identified needs of the participants;

(iii) Comply with and implement the requirements of this part throughout the term of the RVCP grant; and

(iv) Complete and submit timely reports of RVCP grant activities.

(7) A description of any assistance received from or any consultations with VA or Veterans Service Organizations (VSO's) in the development of the proposal being submitted.

(8) Any additional information deemed appropriate by VA and set forth in the NOFA.

(Authority: 38 U.S.C. 501, 523 note)

(The Office of Management and Budget has approved the information collection provisions in this section under control numbers 4040-0003, 4040-0004, 4040-0006, 4040-0007, 4040-0008, 4040-0009, and 4040-0010.)

§ 64.12 Scoring and selection.

(a) Scoring. VA will score only complete applications received from eligible entities by the established deadline. Applications will be scored using the following criteria:

(1) Background, organizational history, qualifications, and past performance (maximum 10 points). Applicant documents a relevant history of successfully providing the type of services proposed in the RVCP grant application, particularly in the location it plans to serve and/or to veterans and their families.

(2) Need for pilot project (maximum 10 points). Applicant demonstrates the need for the pilot project among veterans and their families in the proposed project location, and provides evidence of the applicant's understanding of the unique needs of veterans and their families in the location to be served.

(3) Pilot project concept, innovation, and ability to meet VA's objectives (maximum 40 points). Application shows appropriate concept, size, and scope of the project; provides realistic estimates of time, staffing, and material needs to implement the project; and details the project's ability to enhance the overall services provided, while presenting realistic plans to reduce duplication of benefits and services already in place. Application must describe a comprehensive and well-developed plan to meet one or more of the permissible uses set out in § 64.6.

(4) Pilot project evaluation and monitoring (maximum 10 points). Self-evaluation and monitoring strategy provided in application is reasonable and expected to meet requirements of § 64.10(b)(5).

(5) Organizational finances (maximum 10 points). Applicant provides documentation that it is financially stable, has not defaulted on financial obligations, has adequate financial and operational controls in place to assure the proper use of RVCP grants, and presents a plan for using RVCP grants that is cost effective and efficient.

(6) Pilot project location (maximum 20 points). Applicant documents how the proposed project location meets the definition of rural or underserved communities in this part.

(b) Selection of grantees. All complete applications will be scored using the criteria in paragraph (a) and ranked in order from highest to lowest total score. VA will rank all applications that receive at least the minimum number of points indicated in the NOFA. VA will award one RVCP grant to the highest scoring application. VA will award RVCP grants to each successive application, ranked by total score, provided the applicant has not been awarded an RVCP grant for a higher scoring application and the proposed project is not in the same project location as any previously awarded RVCP grant.

(Authority: 38 U.S.C. 501, 523 note)

§ 64.14 RVCP grant agreement.

(a) VA will draft an RVCP grant agreement to be executed by VA and the grantee.

(b) The RVCP grant agreement will provide that the grantee agrees to:

(1) Operate the project in accordance with this part and the terms of the agreement;

(2) Abide by the following additional requirements:

(i) Community-based organizations are subject to the Uniform Administrative Requirements for Grants and Agreements with Institutions of Higher Education, Hospitals, and Other Non-Profit Organizations under 38 CFR part 49, as well as to OMB Circular A-122, Cost Principles for Non-Profit Organizations, codified at 2 CFR part 230, and 2 CFR parts 25 and 170, if applicable.

(ii) Local and State government entities are subject to the Uniform Administrative Requirements for Grants and Cooperative Agreements to State and Local Governments under 38 CFR part 43, as well as to OMB Circular A-87, Cost Principles for State, Local, and Indian Tribal Governments, and 2 CFR parts 25 and 170, if applicable.

(3) Comply with such other terms and conditions, including recordkeeping and reports for project monitoring and evaluation purposes, as VA may establish for purposes of carrying out the RVCP in an effective and efficient manner and as described in the NOFA; and

(4) Provide any necessary additional information that is requested by VA in the manner and timeframe specified by VA.

(Authority: 38 U.S.C. 501, 523 note)

§ 64.16 Reporting.

(a) Quarterly reports. All grantees must submit to VA quarterly reports based on the Federal fiscal year, which include the following information:

(1) Record of time and resources expended in outreach activities, and the methods used;

(2) The number of participants served, including demographics of this population;

(3) Types of assistance provided;

(4) A full accounting of RVCP grant funds received from VA and used or unused during the quarter; and

(5) Results of routine monitoring and any project variations.

(b) Submission of reports. Reports must be submitted to VA no later than 15 calendar days after the close of each Federal fiscal quarter.

(c) Additional reports. VA may request additional reports to allow VA to fully assess project accountability and effectiveness.

(Authority: 38 U.S.C. 501, 523 note)

§ 64.18 Recovery of funds.

(a) Recovery of funds. VA may terminate a grant agreement with any RVCP grantee that does not comply with the terms of the RVCP agreement. VA may recover from the grantee any funds that are not used in accordance with a RVCP grant agreement. If VA decides to recover funds, VA will issue to the grantee a notice of intent to recover RVCP grant funds, and the grantee will then have 30 days beginning from the date of the notice to submit documentation demonstrating why the RVCP grant funds should not be recovered. If the RVCP grantee does not respond or if the grantee responds but VA determines the documentation is insufficient to establish compliance, VA will make a final determination as to whether action to recover the RVCP grant funds will be taken.

(b) Prohibition of further grants. When VA determines action will be taken to recover grant funds from a grantee, the grantee will be prohibited from receiving any further RVCP grant funds for the duration of the pilot program.

(Authority: 38 U.S.C. 501, 523 note)

[FR Doc. 2012-17434 Filed 7-17-12; 8:45 am]

BILLING CODE 8320-01-P